DEPARTMENT OF THE INTERIOR

Bureau of Indian Affairs

Tribal Consultation on Indian Education Topics; Correction

AGENCY: Bureau of Indian Affairs, Interior.

ACTION: Notice of tribal consultation meetings; correction.

SUMMARY: This document corrects the notice that was published in the Federal Register on May 7, 2002 (67 FR 30722), by changing the comment deadline.

Correction

On page 30722, in the second column under the DATES section, the first sentence “Comments are due on or before June 28, 2002.” is corrected to read: “Comments are due on or before July 26, 2002.”

All other information published in the May 7, 2002 notice remains unchanged.

FOR FURTHER INFORMATION CONTACT: Mr. Kenneth Whitehorn, (202) 208-4976.

Dated: May 7, 2002.
Neal A. McCaleb,
Assistant Secretary—Indian Affairs.

[FR Doc. 02-12053 Filed 5-14-02; 8:45 am]

BILLING CODE 4310-6W-M